DEPARTMENT OF ENERGY

Federal Energy Regulatory Commission

[Project Nos. 3041-004; 13382-000]

Mackay Bar Corporation; Notice of Application Accepted for Filing, Soliciting Motions To Intervene and Protests, Ready for Environmental Analysis, and Soliciting Comments, Recommendations, and Terms and Conditions

August 27, 2009.

Take notice that the following hydroelectric application has been filed with the Commission and is available for public inspection:

a. Type of Application: Surrender of License and Conduit Exemption.

b. Project Nos.: 3041-004 & 13382-000.

c. Date Filed: April 28, 2008.

d. Applicant: Mackay Bar Corporation.

e. Name of Project: Hettinger Hydroelectric Project.

f. Location: On an irrigation system at Hettinger Ranch, on Smith Creek. in Idaho County, Idaho.

g. Filed Pursuant to: Federal Power Act, 16 U.S.C. 791a-825r.

h. Applicant Contact: Ms. Yvonne Goundry, General Manager, Mackay Bar Corporation, P.O. Box 7968, Boise, Idaho 83707, phone (208) 336-0150.

i. FERC Contact: Robert Bell, (202) 502-6062.

j. Status of Environmental Analysis: The surrender request in the application is ready for environmental analysis at this time. The Commission is requesting comments, reply comments, and recommendations for both the Surrender request and the Conduit Exemption requests. The Commission is also requesting terms and conditions for the Conduit Exemption request.

k. Deadline for filing responsive documents: The Commission directs, pursuant to section 4.34(b) of the Regulations (see Order No. 533, issued May 8, 1991, 56 FR 23108, May 20, 1991) that all comments, motions to intervene, protests, recommendations, terms and conditions, and prescriptions concerning the application be filed within 60 days from the issuance date of this notice. All reply comments are due 105 days from the issuance date of this notice. All documents (original and eight copies) should be filed with: Secretary, Federal Energy Regulatory Commission, 888 First Street, NE., Washington, DC 20426. Please include the project numbers (P-3041-004 & 13382-000) on any comments or motions filed.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency. A copy of any motion to intervene must also be served upon each representative of the applicant specified in a particular application.

l. Description of Request: We consider the application filed on April 28, 2008, as consisting of two requests: A surrender of license application under P-3041 and a conduit exemption application under P-13382.

a. Surrender of license: The applicant proposes to surrender the license for the Hettinger Hydroelectric Project No. 3041. The applicant proposes to decommission and remove the following project facilities: Powerhouse, disconnect penstock, disconnect exhaust pipe, and intake. The project's powerhouse will be relocated and used for the conduit exemption project described in section (b) below. The applicant proposes to restore the site following removal of the facilities.

b. Conduit Exemption: The applicant proposes a conduit exemption for the Hettinger Hydroelectric Project No. 13382-000. The proposed project would be located on its irrigation system in Idaho County, Idaho, and would consist of: A new intake structure, a penstock, a powerhouse containing one generating unit having an installed capacity of 17.9 kilowatts, and appurtenant facilities. The applicant consulted with Federal, State, local agencies, and other parties with potential interest, during the conduit exemption application process. The Idaho Department of Fish and Game has already provided its terms and conditions on May 27, 2008, however, they were filed under Project No. 3041. On October 30, 2008, we issued a public notice of the Conduit Exemption application soliciting comments, motions to intervene and competing applications. In this notice we are only soliciting “Terms and Conditions”.

m. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

n. Mailing list: Individuals desiring to be included on the Commission's mailing list should so indicate by writing to the Secretary of the Commission.

o. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application (see item (j) above).

p. Filing and Service of Responsive Documents: All filings must: (1) For the Surrender of License Request: Bear in all capital letters the title “PROTEST”, “MOTION TO INTERVENE”, “COMMENTS,” “REPLY COMMENTS,” “RECOMMENDATIONS,” or in the case of the Conduit Exemption request “TERMS AND CONDITIONS”; (2) set forth in the heading the name of the applicant and the project number of the application to which the filing responds; (3) furnish the name, address, and telephone number of the person protesting or intervening; and (4) otherwise comply with the requirements of 18 CFR 385.2001 through 385.2005. All comments, motions to intervene or protests must set forth their evidentiary basis and otherwise comply with the requirements of 18 CFR 4.34(b). All comments, motions to intervene or protests should relate to project works which are the subject of the license surrender. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

q. e-Filing: Comments, motions to intervene, protests, recommendations, or terms and conditions may be filed electronically via the Internet in lieu of paper. See, 18 CFR 385.2001(a)(1)(iii) and the instructions on the Commission's Web site at http://www.ferc.gov under the “e Filing” link. The Commission strongly encourages electronic filings.

Kimberly D. Bose,
Secretary.

[FR Doc. E9-21238 Filed 9-2-09; 8:45 am]

BILLING CODE 6717-01-P